FEDERAL COMMUNICATIONS COMMISSION

Deletion of Agenda Items From December 17, 2015 Open Meeting

December 17, 2015.

The following items have been deleted from the list of Agenda items scheduled for consideration at the Thursday, December 17, 2015, Open Meeting and previously listed in the Commission's Notice of December 10, 2015. These items have been adopted by the Commission.

Item No. | Bureau | Subject
2 | MEDIA | TITLE: Amendment of Parts 73 and 74 of the Commission's Rules to Establish Rules for Digital Low Power Television and Television Translator Stations (MB Docket No. 03-185); Expanding the Economic and Innovation Opportunities of Spectrum Through Incentive Auctions (GN Docket No. 12-268); Amendment of Part 15 of the Commission's Rules to Eliminate the Analog Turner Requirement (ET Docket No. 14-175) .
|  | SUMMARY: The Commission will consider a Third Report and Order that extends the deadline for LPTV and TV Translator Stations to Transition to Digital and adopts measures to mitigate the impact of incentive auction displacement. The Fourth Notice of Proposed Rulemaking seeks comment on channel sharing issues between certain stations.

Consent Agenda

The Commission will consider the following subjects listed below as a consent agenda and these items will not be presented individually:

1 | MEDIA | TITLE: Application of Hampton Roads Educational Telecommunications Association for a New Noncommercial Educational FM Station at Gloucester Point.
|  | SUMMARY: The Commission will consider a Memorandum Opinion and Order concerning a joint Application for Review challenging the grant of an application filed by Hampton Roads Educational Telecommunications Association for a new NCE FM station.
2 | MEDIA | TITLE: Public Media of New England, Inc. Application for a New LPFM Station at Haverhill, Massachusetts.
|  | SUMMARY: The Commission will consider a Memorandum Opinion and Order concerning an Application for Review filed by Boston Radio Association seeking review of the grant of a construction permit for a new LPFM station to Public Media of New England, Inc.
3 | MEDIA | TITLE: Cocoa Minority Educational Media Association, Application for a New LPFM Station at Cocoa, Florida.
|  | SUMMARY: The Commission will consider a Memorandum Opinion and Order concerning an Application for Review filed by Cocoa Minority Educational Media Association seeking review of CMEMA's dismissed application for a new LPFM station.
4 | MEDIA | TITLE: California Association for Research and Education, Inc., Application for a New Noncommercial Educational FM Broadcast Station at Upton, KY, and Bethel Fellowship, Inc., Application for a New Noncommercial Educational FM Broadcast Station at Cecilia, Kentucky.
|  | SUMMARY: The Commission will consider an Order on Reconsideration in which Bethel seeks reconsideration of a denial of its Application for Review seeking denial of CARE's noncommercial educational FM application.
5 | MEDIA | TITLE: Calvary Chapel of Honolulu, Inc., Application to Construct New Noncommercial Educational FM Stations at Honolulu, Hawaii, and Maka`ainana Broadcasting Company, Ltd., Application to Construct New Noncommercial Educational FM Stations at Kaneohe, Hawaii.
|  | SUMMARY: The Commission will consider a Memorandum Opinion and Order concerning Applications for Review filed by Maka`ainana Broadcasting Company, Ltd. regarding mutually exclusive applications to construct new noncommercial educational FM stations in Hawaii.
6 | MEDIA | TITLE: John Edward Ostlund, Application for a Permit to Construct a new AM Station at Easton, California, and Hilo Broadcasting, LLC, Application for a Permit to Construct a New AM Station at Captain Cook, Hawaii.
|  | SUMMARY: The Commission will consider a Memorandum Opinion and Order concerning an Application for Review filed by Hilo Broadcasting, LLC regarding mutually exclusive AM station applications.

Federal Communications Commission.
Marlene H. Dortch,
Secretary.

[FR Doc. 2015-32461 Filed 12-23-15; 8:45 am]

BILLING CODE 6712-01-P